DEPARTMENT OF LABOR

Employment and Training Administration

[TA-W-35,886, TA-W-35,886A, TA-W-886B and TA-W35,886C]

Justin Boot Company, Justin Management Company, Sarcoxie, MO, et al.; Amended Certification Regarding Eligibility To Apply for Worker Adjustment Assistance

In accordance with section 223 of the Trade Act of 1974 (19 U.S.C. 2273) the Department of Labor issued a Certification of Eligibility to Apply for Worker Adjustment Assistance on July 20, 1999, applicable to workers of Justin Boot Company, Sarcoxie, Missouri, Cassville, Missouri, Carthage, Missouri and Fort Worth, Texas. The notice was published in the Federal Register on August 11, 1999 (64 FR 43724).

At the request of the State agency, the Department reviewed the certification for workers of the subject firm. The workers are engaged in the production of boots and related components. New information received from the company shows that some workers separated from employment at Justin Boot Company had their wages reported under a separate unemployment insurance (UI) tax account for Justin Management Company.

The intent of the Department's certification is to include all workers of Justin Boot Company who were adversely affected by increased imports. Accordingly, the Department is amending the certification to properly reflect this matter.

The amended notice applicable to TA-W-35,886 is hereby issued as follows:

All workers of Justin Boot Company, Justin Management Company, Sarcoxi, Missouri (TA-W-35,886), Cassville, Missouri (TA-W-886A), Carthage, Missouri (TA-W-35,886B) and Fort Worth, Texas (TA-W-886C) who became totally or partially separated from employment on or after March 3, 1998 through July 20, 2001 are eligible to apply for adjustment assistance under Section 223 of the Trade Act of 1974.

Signed at Washington, DC this 7th day of March, 2000.
Grant D. Beale,
Program Manager, Division of Trade Adjustment Assistance.

[FR Doc. 00-7483 Filed 3-24-00; 8:45 am]

BILLING CODE 4510-30-M